DEPARTMENT OF THE INTERIOR

National Park Service

Yosemite Valley Plan; Yosemite National Park; Mariposa, Madera, and Tuolumne Counties, California; Notice of Revised Record of Decision

SUMMARY: On December 29, 2000, the National Park Service (NPS) executed a Record of Decision selecting Alternative 2 from the Final Yosemite Valley Plan/Supplemental Environmental Impact Statement for implementation (as noticed in the Federal Register on January 12, 2001). As explained below, the NPS has subsequently approved a revised Record of Decision for the Final Yosemite Valley Plan and will implement Modified Alternative 2 instead.

Decision: The NPS has approved adoption of a Modified Alternative 2 which consists of completed actions and projects that conform to four broad purposes and goals. These are to restore natural processes in Yosemite Valley, to ameliorate environmental impacts, to preserve cultural resource values, and to continue providing opportunities for high-quality visitor experiences. Excluded from the approved Modified Alternative 2 were certain projects yet to be initiated, including but not limited to consolidation of some parking and facilities in the eastern end of Yosemite Valley, relocation of equestrian facilities, removal of Sugar Pine Bridge, and several traffic recirculation plans. Also revised were Findings of No Significant Impact (FONSI decisions) for Yosemite Lodge area redevelopment and improvements at Curry Village and East Yosemite Valley campgrounds.

Background: In 2006, a lawsuit was filed in the U.S. District Court for the Eastern District of California challenging the 2000 Final Yosemite Valley Plan. Concurrently, the NPS was involved in a separate lawsuit filed by the same plaintiffs challenging the 2005 Merced Wild and Scenic River Comprehensive Management Plan (Merced River Plan). Because the Yosemite Valley Plan and the Merced River Plan were integrally related, the NPS and the plaintiffs agreed to suspend proceedings on the Yosemite Valley Plan lawsuit until the courts reached a final decision on the Merced River Plan lawsuit. In March 2008, the U.S. Court of Appeals for the Ninth Circuit issued a ruling affirming that the 2005 Merced River Plan did not adequately fulfill requirements of the National Environmental Policy Act nor the Wild and Scenic Rivers Act. Following that decision, the NPS and the plaintiffs began settlement discussions to resolve the two lawsuits and to establish a framework for moving forward on a new version of the Merced River Plan. A settlement was reached in September 2009 (the Settlement Agreement is available on the park's Web site: http://www.nps.gov/yose/parkmgmt/upload/mrpsettlementagreement.pdf). Pursuant to the Settlement Agreement, the NPS agreed to revise the Record of Decision for the Yosemite Valley Plan, as well as two related FONSI decisions. The three revised documents were filed with the District Court on January 29, 2010.

Copies: Interested parties may review the revised Record of Decision and FONSI decisions on the park's Web site, and copies can also be obtained by contacting the Superintendent, Yosemite National Park, P. O. Box 577, Yosemite, California 95389; via telephone request at (209) 372-0261; or via e-mail request at yose_planning@nps.gov.

Dated: June 7, 2010.
George J. Turnbull,
Acting Regional Director, Pacific West Region.

[FR Doc. 2010-16834 Filed 7-8-10; 8:45 am]

BILLING CODE P